FEDERAL EMERGENCY MANAGEMENT AGENCY

44 CFR Part 65

[Docket No. FEMA-P-7620]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Michael M. Grimm, Acting Chief, Hazard Study Branch, Federal Insurance and Mitigation Administration, 500 C Street, SW., Washington, DC 20472, (202) 646-2878 or (e-mail) michael.grimm@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas:
Sebastian (Case No. 02-06-1094P) | City of Greenwood | Nov. 13, 2002, Nov. 20, 2002, Greenwood Democrat | The Honorable Judy Selkirk, Mayor, City of Greenwood, City Hall, P.O. Box 1450, 101 North Aster Street, Greenwood, Arkansas 72936 | Nov. 25, 2002 | 050198
Crawford (Case No. 02-06-873P) | City of Van Buren | Nov. 13, 2002, Nov. 20, 2002, Van Buren Press Argus Courier | The Honorable John Riggs, Mayor, City of Van Buren, 1003 Broadway, Van Buren, Arkansas 72956 | Feb. 19, 2003 | 050053
Kansas:
Johnson (Case No. 01-07-457P) | City of Overland Park | Nov. 13, 2002, Nov. 20, 2002, The Sun Newspapers | The Honorable Ed Eilert, Mayor, City of Overland Park, City Hall, 8500 Santa Fe Drive, Overland Park, Kansas 66212 | Feb. 19, 2003 | 200174
Minnesota:
Washington (Case No. 02-05-0419P) | City of Hugo | Nov. 6, 2002, Nov. 13, 2002, The White Bear Press | The Honorable Fran Miron, Mayor, City of Hugo, 14669 Fitzgerald Avenue North, Hugo, Minnesota 55038 | Nov. 15, 2002 | 270504
Nebraska:
Lancaster (Case No. 02-07-1012P) | City of Lincoln | Nov. 18, 2002, Nov. 25, 2002, Lincoln Journal Star | The Honorable Don Wesely, Mayor, City of Lincoln, 555 South 10th Street, Room 208, Lincoln, Nebraska 68508 | Oct. 25, 2002 | 315273
Ohio:
Franklin (Case No. 02-05-3971P) | Unincorporated Areas | Oct. 31, 2002, Nov. 7, 2002, The Columbus Dispatch | The Honorable Arlene Shoemaker, President, Franklin County Board of Commissioners, 373 South High Street, 26th Floor, Columbus, Ohio 43215-6304 | Oct. 15, 2002 | 390167
Texas:
Denton (Case No. 02-06-1264P) | Town of Copper Canyon | Nov. 18, 2002, Nov. 25, 2002, Denton Record Chronicle | The Honorable Chuck Wainscott, Mayor, Town of Copper Canyon, 400 Woodland Drive, Copper Canyon, Texas 75067-8501 | Oct. 25, 2002 | 481508
Denton (Case No. 02-06-419P) | City of Denton | Nov. 19, 2002, Nov. 26, 2002, Denton Record Chronicle | The Honorable Euline Brock, Mayor, City of Denton, 215 East McKinney Street, Denton, Texas 76201 | Feb. 25, 2003 | 480194
Denton (Case No. 02-06-419P) | Unincorporated Areas | Nov. 19, 2002, Nov. 26, 2002, Denton Record Chronicle | The Honorable Mary Horn, Judge, Denton County, Courthouse on the Square, 110 West Hickory Street, Denton, Texas 76201 | Feb. 25, 2003 | 480774
Tarrant (Case No. 02-06-263P) | City of Fort Worth | Dec. 2, 2002, Dec. 9, 2002, Fort Worth Star Telegram | The Honorable Kenneth Barr, Mayor, City of Forth Worth, 1000 Throckmorton Street, Fort Worth, Texas 76102 | March 10, 2003 | 480596
Harris (Case No. 02-06-1092P) | Unincorporated Areas | Nov. 19, 2002, Nov. 26, 2002, Houston Chronicle | The Honorable Robert Eckels, Judge, Harris County, 1001 Preston Street, Houston, Texas 77002 | Oct. 29, 2002 | 480287
Harris (Case No. 02-06-1537P) | City of Houston | Dec. 12, 2002, Dec. 19, 2002, Houston Chronicle | The Honorable Lee P. Brown, Mayor, City of Houston, P.O. Box 1562, Houston, Texas 77251-1562 | Mar. 20, 2003 | 480296
Dallas (Case No. 01-06-1230P) | City of Mesquite | Nov. 7, 2002, Nov. 14, 2002, Mesquite Morning News | The Honorable Mike Anderson, Mayor, City of Mesquite, P.O. Box 850137, Mesquite, Texas 75185 | Oct. 9, 2002 | 485490
Midland (Case No. 02-06-1417P) | City of Midland | Nov. 12, 2002, Nov. 19, 2002, Midland Reporter-Telegram | The Honorable Michael J. Canon, Mayor, City of Midland, 300 North Loraine, P.O. Box 1152, Midland, Texas 79702 | Nov. 6, 2002 | 480477
Midland (Case No. 02-06-1417P) | Unincorporated Areas | Nov. 12, 2002, Nov. 19, 2002, Midland Reporter-Telegram | The Honorable William Morrow, Judge, Midland County, County Courthouse, 200 West Wall Street, Midland, Texas 79701 | Nov. 6, 2002 | 481239
Tarrant (Case No. 01-06-1464P) | City of North Richland Hills | Dec. 10, 2002, Dec. 17, 2002, The Star Telegram | The Honorable Oscar Trevino, Jr., Mayor, City of North Richland Hills, 7301 N.E. Loop 820, North Richland Hills, Texas 76180 | Mar. 18, 2003 | 480607
Collin (Case No. 02-06-536P) | City of Plano | Nov. 13, 2002, Nov. 20, 2002, Plano Star Courier | The Honorable Pat Evans, Mayor, City of Plano, P.O. Box 860358, Plano, Texas 75086-0358 | Feb. 19, 2003 | 480140
Collin (Case No. 02-06-992P) | City of Plano | Dec. 4, 2002, Dec. 11, 2002, Plano Star Courier | The Honorable Pat Evans, Mayor, City of Plano, P.O. Box 860358, Plano, Texas 75086-0358 | Mar. 12, 2003 | 480140
Bexar (Case No. 02-06-1072P) | City of San Antonio | Nov. 13, 2002, Nov. 20, 2002, San Antonio Express News | The Honorable Ed Garza, Mayor, City of San Antonio, P.O. Box 839966, San Antonio, Texas 78283 | Feb. 19, 2003 | 480045
Bexar (Case No. 02-06-1707P) | City of San Antonio | Dec. 4, 2002, Dec. 11, 2002, San Antonio Express News | The Honorable Ed Garza, Mayor, City of San Antonio, P.O. Box 839966, San Antonio, Texas 78283 | Mar. 12, 2003 | 480045
Tarrant (Case No. 02-06-263P) | Unincorporated Areas | Dec. 2, 2002, Dec. 9, 2002, Fort Worth Star Telegram | The Honorable Tom Vandergriff, Judge, Tarrant County, 100 E. Weatherford, Fort Worth, Texas 76196 | Mar. 10, 2003 | 480582
Bell (Case No. 02-06-590P) | City of Temple | Dec. 11, 2002, Dec. 18, 2002, Temple Daily Telegram | The Honorable Bill Jones, III, Mayor, City of Temple, 2 North Main Street, Temple, Texas 76501 | Mar. 19, 2003 | 480034
Tarrant (Case No. 02-06-263P) | City of Watauga | Dec. 2, 2002, Dec. 9, 2002, Fort Worth Star Telegram | The Honorable Harry Jeffries, Mayor, City of Watauga, 7101 Whitley Road, Watauga, Texas 76148 | Mar. 10, 2003 | 480613

(Catalog of Federal Domestic Assistance No. 83.100, “Flood Insurance.”)

Dated: January 21, 2003.
Anthony S. Lowe,
Administrator, Federal Insurance and Mitigation Administration.

[FR Doc. 03-2246 Filed 1-30-03; 8:45 am]

BILLING CODE 6718-04-P